POSTAL SERVICE

39 CFR Part 111

Stamped Mail Over 13 Ounces Must Be Presented at a Retail Service Counter

AGENCY: Postal Service™.

ACTION: Final Rule.

SUMMARY: The Postal Service is revising the Mailing Standards of the United States Postal Service, Domestic Mail Manual (DMM®) to require all mailpieces weighing more than 13 ounces bearing only postage stamps be presented to a Postal Service employee at a retail service counter in a Post Office™.

DATES: Effective Date: January 4, 2010.

FOR FURTHER INFORMATION CONTACT: Bert Olsen 202-268-7276 or Evans King 202-268-4982.

SUPPLEMENTARY INFORMATION:

These revisions ensure compliance with safety and security directives as required by the Postal Inspection Service.

The Postal Service hereby adopts the following changes to Mailing Standards of the United States Postal Service, Domestic Mail Manual (DMM), which is incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

100 Retail Mail, Letters, Cards, Flats, and Parcels

* * * * *

110 Express Mail

* * * * *

116 Deposit

1.0 Express Mail Next Day and Second Day Delivery

1.1 Deposit of Next Day and Second Day Delivery

Express Mail Next Day and Second Day Delivery items:

[Revise the first sentence in 1.1a, delete item b in its entirety, and rename current item c as item b as follows]

a. Weighing more than 13 ounces and paid only with postage stamps, must present such items to an employee at a retail service counter at a Postal Service facility.* * *

* * * * *

120 Priority Mail

* * * * *

126 Deposit

1.0 Deposit

* * * * *

1.2 Pieces Weighing More Than 13 Ounces

[Revise the text of 1.2, as follows:]

Priority Mail weighing more than 13 ounces bearing only postage stamps as postage may not be deposited into a collection box, Postal Service lobby drop, Automated Postal Center (APC) drop, Postal Service dock, customer mailbox, or other unattended location. These mailpieces are also precluded from pickup service. The sender must present such items to an employee at a retail service counter in a Postal Service facility. The Postal Service will return improperly presented items to the sender for proper entry and acceptance.

* * * * *

150 Parcel Post

* * * * *

156 Deposit

1.0 Deposit for Parcel Post

* * * * *

[Add new item 1.6 as follows:]

1.6 Stamped Pieces over 13 Ounces

Parcel Post weighing more than 13 ounces bearing only postage stamps as postage may not be deposited into a collection box, Postal Service lobby drop, Automated Postal Center (APC) drop, Postal Service dock, customer mailbox, or other unattended location. These mailpieces are also precluded from pickup service. The sender must present such items to an employee at a retail service counter in a Postal Service facility. The Postal Service will return improperly presented items to the sender for proper entry and acceptance.

* * * * *

170 Media Mail

* * * * *

176 Deposit

1.0 Deposit for Media Mail

* * * * *

[Add new item 1.2 as follows:]

1.2 Stamped Pieces over 13 Ounces

Media Mail weighing more than 13 ounces bearing only postage stamps as postage may not be deposited into a collection box, Postal Service lobby drop, Automated Postal Center (APC) drop, Postal Service dock, customer mailbox, or other unattended location. These mailpieces are also precluded from pickup service. The sender must present such items to an employee at a retail service counter in a Postal Service facility. The Postal Service will return improperly presented items to the sender for proper entry and acceptance.

* * * * *

180 Library Mail

* * * * *

186 Deposit

1.0 Deposit for Library Mail

1.1 Single-Piece Price Mailing

[Add new item 1.2 as follows:]

1.2 Stamped Pieces Over 13 Ounces

Library Mail weighing more than 13 ounces bearing only postage stamps as postage may not be deposited into a collection box, Postal Service lobby drop, Automated Postal Center (APC) drop, Postal Service dock, customer mailbox, or other unattended location. These mailpieces are also precluded from pickup service. The sender must present such items to an employee at a retail service counter in a Postal Service Facility. The Postal Service will return improperly presented items to the sender for proper entry and acceptance.

* * * * *

400 Commercial Parcels

* * * * *

420 Priority Mail

* * * * *

426 Enter and Deposit

[Delete 1.1 and 1.2 in their entirety, and add new item 1.0 as follows:]

1.0 Time and Location of Deposit

Commercial Parcels at the Presorted price must be deposited at locations and items designated by the postmaster. Permit imprint mail must be presented at a Post Office under 604.5.0, Permit Imprint (Indicia), or 705, Advanced Preparation and Special Postage Payment Systems.

* * * * *

507 Mailer Services

* * * * *

6.0 Pickup on Demand Service

* * * * *

6.2 Basic Standards

6.2.1 Availability

[Renumber current items 6.2.2 thru 6.2.8 as 6.2.3 thru 6.2.9, and add new item as 6.2.2 and as follows:]

6.2.2. Stamped Pieces Over 13 Ounces

Mailpieces weighing more than 13 ounces bearing only postage stamps as postage must be presented to an employee at a retail service counter in a Postal Service facility. Letter carriers may not pick up or accept mail weighing more than 13 ounces bearing only stamps as postage. If this mail is discovered in collection boxes, Postal Service lobby drop, Automated Postal Center (APC) drops, Postal Service dock, or customer mailbox it will be returned to the sender for proper presentation at a retail counter.

* * * * *

600 Basic Standards for All Mailing Services

601 Mailability

* * * * *

11.0 Other Restricted and Nonmailable Matter

* * * * *

[Add new item 11.21 as follows:]

11.21 Mail Weighing More Than 13 Ounces

A mailpiece weighing more than 13 ounces bearing only postage stamps as postage may not be deposited into a collection box, Postal Service lobby drop, Automated Postal Center (APC) drop, Postal Service dock, customer mailbox, or other unattended location. These mailpieces are also precluded from pickup service. The sender must present such items to an employee at a retail service counter in a Postal Service Facility. The Postal Service will return improperly presented items to the sender for proper entry and acceptance.

* * * * *

700 Special Standards

703 Nonprofit Standard Mail and Other Unique Eligibility

* * * * *

2.0 Overseas Military Mail

2.1 Basic Standards

* * * * *

2.1.7 Restrictions

[Revise 2.1.7 to read as follows:]

Regardless of postage payment method, single-piece Priority Mail and single-piece Package Services weighing more than 13 ounces may not be deposited into a collection box, Postal Service lobby drop, Automated Postal Center (APC) drop, Postal Service dock, customer mailbox, or other unattended location. These mailpieces are also precluded from pickup service. The sender must present such items to an employee at a retail service counter in a Postal Service facility. The Postal Service will return improperly presented items to the sender for proper entry and acceptance

* * * * *

Neva R. Watson,
Attorney, Legislative.

[FR Doc. E9-24332 Filed 10-8-09; 8:45 am]

BILLING CODE 7710-12-P